DEPARTMENT OF TRANSPORTATION

Federal Aviation Administration

Notice of FAA Approval of the Noise Compatibility Program at Great Falls International Airport, Great Falls, MT

AGENCY: Federal Aviation Administration, DOT.

ACTION: Notice of FAA Approval of Noise Compatibility Program 14 CFR Part 150, Great Falls International Airport, Great Falls, Montanta.

SUMMARY: The Federal Aviation Administration (FAA) announces its findings on the noise compatibility program submitted by the Great Falls International Airport under the provisions of 49 U.S.C. (the Aviation Safety and Noise Abatement Act, hereinafter referred to as “the Act”) and 14 CFT Part 150. These findings are made in recognition of the description of Federal and nonfederal responsibilities in Senate Report No. 96-52 (1980). On February 13, 2007, the FAA determined that the noise exposure maps submitted by the Great Falls International Airport under Part 150 were in compliance with applicable requirements. On August 8, 2007, the FAA approved the Great Falls International Airport noise compatibility program. All of the recommendations of the program, approved by the Airport, were approved in whole or in part by FAA.

EFFECTIVE DATE: The effective date of the FAA's approval of the Great Falls International Airport noise compatibility program is August 8, 2007.

FOR FURTHER INFORMATION CONTACT: Gary Gates, Federal Aviation Administration, Helena Airports District Office, 2725 Skyway Drive, Suite 2, Helena, MT, telephone 406-449-5271, e-mail gary.gates@faa.gov. Documents reflecting this FAA action may be reviewed at this same location.

SUPPLEMENTARY INFORMATION: This notice announces that the FAA has given its overall approval to the noise compatibility program for Great Falls International Airport, effective August 8, 2007.

Under section 47504 of the Act, an airport operator who has previously submitted a noise exposure map may submit to the FAA a noise compatibility program which sets forth the measures taken or proposed by the airport operator for the reduction of existing non-compatible land uses and prevention of additional non-compatible land uses within the area covered by the noise exposure maps. The Act requires such programs to be developed in consultation with interested and affected parties including local communities, government agencies, airport users, and FAA personnel.

Each airport noise compatibility program developed in accordance with Federal Aviation Regulations (FAR) Part 150 is a local program, not a Federal program. The FAA does not substitute its judgement for that of the airport proprietor with respect to which measures should be recommended for action. The FAA's approval or disapproval of FAR Part 150 program recommendations is measured according to the standards expressed in Part 150 and the Act and is limited to the following determinations:

a. The noise compatibility program was developed in accordance with the provisions and procedures of FAR Part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport noise compatibility program are delineated in FAR Part 150, section 150.5. Approval is not a determination concerning the acceptability of land uses under Federal, state, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA. Where federal funding is sought, requests for project grants must be submitted to the FAA Helena Airports District Office in Helena, Montana. Great Falls International Airport submitted to the FAA on February 2, 2007, the noise exposure maps, descriptions, and other documentation produced during the noise compatibility planning study. The Great Falls International Airport noise exposure maps were determined to FAA to be in compliance with applicable requirements on February 13, 2007. Notice of this determination was published in the Federal Register on February 26, 2007 (FR Volume 72, Number 37, pages 8412 and 8413).

The Great Falls International Airport study contains a proposed noise compatibility program comprised of actions designed for phased implementation by airport management and adjacent jurisdictions from 2005 through 2016. It was requested that the FAA evaluate and approve this material as a noise compatibility program as described in section 47504 of the Act. The FAA began its review of the program on February 13, 2007, and was required by a provision of the Act to approve or disapprove the program within 180 days (other than the use of new or modified flight procedures for noise control). Failure to approve or disapprove such program within the 180-day period shall be deemed to be an approval of such program.

The submitted program contained ten proposed actions for noise mitigation on and off the airport. Eight of these were approved by the Airport requiring an FAA determination. The FAA completed its review and determined that the procedural and substantive requirements of the Act and FAR Part 150 have been satisfied. The overall program, therefore, was approved by the FAA effective August 8, 2007.

The program elements were approved as follows and as further described in the Record of Approval.

Recommendation one—Amend Local Zoning Ordinances to Minimize New Non-compatible Land Uses was approved except for clarified FAA involvement regarding height restrictions. This element will be addressed on a case-by-case basis under project specific 14 CFR Part 77 evaluations.

Recommendation two: Create Fair Disclosure Agreements within the Airport Influence Area;

Recommendation three: Amend Existing Building Codes;

Recommendation four: Prohibit Noise Sensitive Land Use with the 65 DNL;

Recommendation five: Prohibit Residential Densities Greater than 2-4 units/acre;

Recommendation seven: Sound Attenuation and Undeveloped Land Purchase;

Recommendation nine: Periodic Review of Aeronautical Operations and Part 150 Updates;

Recommendation ten: Establish Local Committee to Monitor 150 Program;

Recommendation six and eight were not approved by the Airport Authority and required no action by FAA.

These determinations are set forth in detail in a Record of Approval signed by the Airports Division Manager, Northwest Mountain Region on August 8, 2007. The Record of Approval, as well as other evaluation materials and the documents comprising the submittal, are available for review at the FAA office listed above and at the administrative offices of the Great Falls International Airport. The Record of Approval also will be available on-line at http://www.faa.gov/arp/environmental/14cfr150/index14.cfm.

Issued in Renton, Washington August 8, 2007.
Donna P. Taylor,
Manager, Airports Division, Northwest Mountain Region.

[FR Doc. 07-4153 Filed 8-23-07; 8:45 am]

BILLING CODE 4910-13-M